DEPARTMENT OF ENERGY

American Energy Data Challenge

AGENCY: Office of Electricity Delivery and Energy Reliability, Department of Energy.

ACTION: Notice of a four-part competition.

SUMMARY: The U.S. Department of Energy (DOE) announced the administration of a four-part prize competition titled “American Energy Data Challenge.” The goal of this competition is to introduce the public to the open data and resources offered by DOE, to solicit feedback about the data, its organization and presentation, to spur the creation of new tools and insights for the American public, and to solicit public input on how energy generation, distribution and use could be transformed to better serve our 21st century society and economy.

DATES: See Key Challenge Dates & Deadlines in SUPPLEMENTARY INFORMATION.

ADDRESSES: The American Energy Data Challenge is available at http://energychallenge.energy.gov/.

FOR FURTHER INFORMATION CONTACT: Mr. Christopher Irwin, U.S. Department of Energy, Office of Electricity Delivery and Energy Reliability, OE-50, 1000 Independence Ave. SW., Washington, DC 20585; email: christopher.irwin@hq.doe.gov.

Mr. Matthew Theall, U.S. Department of Energy, Office of Electricity Delivery and Energy Reliability, OE-50, 1000 Independence Ave. SW., Washington, DC 20585; email: matthew.theall@hq.doe.gov.

SUPPLEMENTARY INFORMATION:

I. Key Challenge Dates & Deadlines

Below is a summary of approximate challenge dates. Official dates for Contest 1 were provided when the American Energy Data Challenge was announced on November 6, 2013, as well as expected dates for Contests 2, 3, and 4.

Contest 1: Submissions: November 6-November 29, 2013. Judging: December 2-December 13, 2013. Winners Announced: December 16-December 20, 2013.

Contest 2: Submissions: Mid-January-Mid-February 2014. Judging: Late February 2014. Winners announced: March 2014.

Contest 3: Submissions: Mid-April-Mid-May 2014. Judging: Late May 2014. Winners announced: June 2014.

Contest 4: Submissions: Mid-June-July 2014. Judging: Early August 2014. Winners announced: September 2014.

II. Introduction

The Administration launched the Energy Data Initiative in 2012 to liberate data as a fuel for innovation while rigorously protecting privacy. The primary fuel for the Energy Data Initiative is open data. Open data can take many forms but generally includes information that is machine-readable, freely accessible, and in an industry-standard format. In particular, open data from the private sector made available to consumers may spur a uniquely scalable degree of innovation. For example, enabling energy customers to securely access their own household or building energy data—via a “Green Button” on their utility Web site—has fueled the next generation of energy efficiency products and services. Within this context, the U.S. Department of Energy (DOE) is launching the American Energy Data Challenge (the Challenge).

The Challenge will consist of four parts: (1) Contest 1 will invite the public to identify open data sets held by the Department of Energy and other organizations that can deliver new or unexpected value, and incentivize concepts that blend open and other data in ways that could lead to future applications for American consumers and businesses. (2) Contest 2 will invite software developers to create software applications that enhance the value of open data and Green Button data in ways that benefit the public. (3) Contest 3 will invite the public to offer approaches that improve the discoverability, usability, or understanding of open data and Green Button data resources. (4) Contest 4 invites bold ideas for re-imagining all aspects of America's energy system, and how this system could be changed for the better, including the way energy is generated, delivered, secured and sold.

III. The Prizes

The prizes for this four-part Challenge will be awarded in stages after each Contest is complete and will consist of a cash award and an opportunity to be recognized at a public announcement of the final winners. Each Contest winner will be awarded a small portion of the total cash pool. Winner(s) may be invited to a public announcement event hosted by DOE and its supporters and will be highlighted on DOE's Web site. For the purposes of this Challenge, the term Submissions (“Submissions”) refers to the total portfolio of submitted ideas, products, and other entries. Monetary prizes will be awarded to each of the four Contest winners. Contestants are free to participate in one or more Contests.

IV. Authority and Prize Amount

This Challenge is being conducted under the authority of the America COMPETES Act of 2010, 15 U.S.C. 3719. Monetary prizes will be awarded, subject to the availability of funds. DOE reserves the right to suspend, cancel, extend, or curtail the Challenge as required or determined by appropriate DOE officials. Nothing within this document or in any documents supporting the Challenge shall be construed as obligating DOE or any other Federal agency or instrumentality to any expenditure of appropriated funds, or any obligation or expenditure of funds in excess of or in advance of available appropriations. DOE will award a single dollar amount to winning Team(s) and each Team, whether consisting of a single or multiple Contestants, is solely responsible for allocating any prize amount among its member Contestants as they deem appropriate. DOE will not arbitrate, intervene, advise on, or resolve any matters between entrant members. It will be up to the winning Team(s) to reallocate the prize money among its member Contestants, if they deem it appropriate.

V. Prize Eligibility

To be eligible to compete within this Challenge all of the requirements stated below must be met:

A. All Challenge entrants must be identified in their Challenge Submission under a named Team (“Team”).

B. Each Team member (“Contestant”) must be: (a) A citizen or permanent resident of the United States who is at least thirteen (13) years old at the time of entry; or (b) a private entity, such as a corporation or other organization, that is a lawfully-organized entity established in accordance with applicable State laws and in good standing in their respective jurisdiction, with operations in the U.S. or its Territories or a foreign legal entity having an officially recognized place of business in the U.S. or its Territories. Individuals submitting on behalf of corporations, nonprofits, or groups of individuals (such as an academic class) must meet the eligibility requirements for individual Contestants. A Contestant may join more than one Team.

C. Each Team that registers for the Challenge must be able to receive payments that are legally made from the U.S. in U.S. dollars. Minors must provide proof of consent of a parent or legal guardian.

D. Each Team must have a bank account into which funds can be legally deposited from the U.S. in U.S. dollars.

E. The Team and all its Contestant members must agree to assume any and all risks related to the Challenge and waive all claims against the Federal Government and related entities, except in cases of willful misconduct, for any injury, death, damage, or loss of personal property, revenue or profits, whether direct, indirect, or consequential, arising from their participation in the Challenge competition, whether the injury, death, damage, or loss arises through negligence or otherwise.

F. Each Team shall submit all required documentation in English and any monetary figures shall be stated or referenced in U.S. dollars.

G. DOE employees, employees of sponsoring organizations (including participating industry leaders and employees of their associated or affiliated organizations), and members of their immediate family (spouses, children, siblings, parents), and persons living in the same household as such persons, whether or not related, are not eligible to participate in the Challenge.

VI. Open Data and Green Button Data Specifications

The Department of Energy has data available in a variety of locations and in a variety of formats. For this Challenge, where use of existing datasets is required, the data resources that are to be used by Teams are the datasets that can be directly and legally accessed. Green Button data means formatted data produced by the system developed by the North American Energy Standards Board for providing web-based secure access to energy bill account information, energy usage information, and energy consumption and usage data to customers of utilities and energy providers for the purposes of business management and energy usage management. A partial list of electricity and gas service providers supporting Green Button data is available at http://www.greenbuttondata.org/greenadopt.html.

Use of open data or Green Button data is mandatory to be considered for a prize in Challenges 1, 2, and 3 listed above. However, DOE also encourages combining the value of this data with other non-open data, such as weather data or GPS technologies on a smart phone.

VII. Evaluation Criteria

It is of paramount importance to the American Energy Data Challenge that any use of open data or Green Button data protects privacy. Any generated idea, application, design, or other entry that presents a potential violation of this principle will be rejected by the judges. The following evaluation criteria are common across all four Contests, but complete rules and judging criteria will be published under each Contest.

Common Criteria for Challenge

Potential Impact: Each Submission will be rated on the strength of its potential to help individuals, organizations, and communities make greater use of open data or resources held by DOE, data in the Green Button data format, or energy infrastructure in the United States.

Creativity and Innovation: Each Submission will be rated for the degree of new thinking it brings to the subject matter of each Contest, and the creativity shown in designing for impact.

Helps Deliver Services Smarter and Faster: Each Submission will be rated for the degree to which public resources can be discovered and utilized or how open data and energy infrastructure can be efficiently leveraged to greatest citizen benefit.

Use of Open Data: Each Submission in Contests 1, 2, and 3 must make use of open data or Green Button data. Judges will be looking at both the depth of usage for each data stream and the breadth of different data streams that are integrated.

Submissions will be judged by an expert panel as well as the public. The expert judging panel will be appointed by DOE, may include both Federal and non-Federal personnel, and will determine winners of Contests 1-4. Each Contest will also feature a Popular Choice award, to be determined by public vote. Public votes will be displayed on the Challenge Web site, but will be verified for integrity. The winners of the Popular Choice Awards will be determined on the basis of the verified vote counts, as determined by DOE, and DOE reserves the right to suspend, cancel or extend the Popular Choice voting period at any time for any reason.

VIII. Submission Requirements

The official time-keeping device will be announced at the launch of each Contest, which shall be used for determining submission date and time, and compliance with submission timelines. The rules for Submissions—subject to modification as the individual Contests require—by Teams are as follows:

(a) Visit http://energychallenge.energy.gov/ and click “Sign Up” to create a Contest account, or click “Log In” and log in with an existing account.

(b) Register your interest in participating by clicking “Accept this Challenge” on the Challenge Web site in order to receive important Challenge updates. Registration is free.

(c) After you sign up on the Challenge Web site, a confirmation email will be sent to the email address you provided. Use the confirmation email to verify your email address. As a registered Contestant, you will then be able to enter the each Contest by crafting a Submission that conforms to the requirements set forth in the Official Rules.

(d) For Contest 1, submit an idea. For Contest 2, create a software application according to the Official Rules. For Contest 3, meet the requirements for the relevant prize category (visualization, information design, directory, etc). For Challenge 4, create a video.

(e) Challenge Submission Requirements: Timing of Submission requirements will be announced when each Contest is launched, with Contest 1 commencing on the date specified above. When a Submission is made, you will be required to visit http://energychallenge.energy.gov/ to confirm that you have read and agree to the Official Rules.

(g) Submission Rights:

1. For Contest 1, Submissions must be submitted and released to the public under a Creative Commons Attribution 3.0 Unported License.

2. By sending in a Submission to this Challenge, you grant to DOE, and the other supporters a royalty-free license to: (i) Post on http://energychallenge.energy.gov/ your Submission(s) and if applicable a link to the downloadable product in the online store of the applicable software platform (e.g., Google Play) or, if not distributed through such platform, to your Web site; and (ii) publicize the names of Challenge Contestants (including the individual members of a team) and winners and their Submissions through media and events of DOE's choosing. Such license shall remain in force for the duration of the Challenge and for a period of no less than 12 consecutive months following the announcement of the Challenge winners.

(h) Submission Requirements: In order for Submissions to be eligible to win a Contest, they must meet the following requirements:

1. Acceptable platforms—The Submission, if in the form of software, must be designed for the web, a personal computer, a mobile handheld device, console, or any platform broadly accessible on the open internet.

2. Data used—For Contests 1, 2, and 3, the Submission must utilize open data or Green Button data. The use of or reference to data from other sources in conjunction with required data is strongly encouraged.

3. No DOE logo—The Submission must not use DOE's logo or official seal in the Submission, and must not claim DOE endorsement.

4. Functionality/Accuracy—In the case of software applications, such applications may be disqualified if the software application fails to function as expressed in the description and video provided by the user, or if the software application provides inaccurate information.

5. Third Party Approval—Submissions requiring approval from a third party, such as an “app store” like the Apple App Store, in order to be accessible to the public, must be submitted to such third party or app store for review before the end of the Contest period. For any software platform that is not easily shared on the web before store approval, such as Apple iPhone, you may submit your working software product using a web framework designed for those platforms (such as PhoneGap), and provide the required link to a video of your working application. DOE may request access to the product in person or via device provisioning to verify any criteria or functionality of your product.

6. Security—Submissions must be free of malware. Contestant agrees that DOE may conduct testing on the Submission to determine whether malware or other security threats may be present. DOE may disqualify the Submission if, in DOE's judgment, the Submission may damage Government or others' equipment or operating environment.

7. No Previous Winners—Contestant may not submit a Submission that is substantially similar to a Submission that has previously been submitted by the Team to another competition and has won a prize.

8. DOE will also screen Submissions for Team eligibility, IT security, and compliance with the challenge Web site's Terms of Participation. Once a Submission has been submitted, the Team cannot make any changes or alterations to any part of the Submission. Ideas and products failing to meet Submission requirements or other Submission screenings will be deemed ineligible to win a prize. Posting a software application to http://energychallenge.energy.gov/does not constitute DOE's final determination of Team eligibility.

9. Each Submission must be original, the work of the Team, and must not infringe, misappropriate, or otherwise violate the lawful rights of any individual or organization including intellectual property rights and proprietary rights, privacy rights, or any other rights of any person or entity. Each Team further represents and warrants to DOE and the other sponsors that the Submission, and any use thereof by DOE or the other sponsors (or any of their respective partners, subsidiaries and affiliates), shall not: (i) Be defamatory or libelous in any manner toward any person, (ii) constitute or result in any misappropriation or other violation of any person's publicity rights or right of privacy, and (iii) infringe, misappropriate, or otherwise violate any intellectual property rights, proprietary rights, privacy rights, moral rights, or any other rights of any person or entity.

10. It is an express condition of eligibility that each Team warrants and represents that the Team's Submission is solely owned by the Team, that the Submission is wholly original with the Team, and that no other party has any ownership rights or ownership interest in the Submission.

11. A Team may contract with a third party for technical assistance to create the Submission, provided the idea or product is solely the Team's work product and the result of the Team's ideas and creativity and the Team owns all rights to it.

12. Each Submission must be in English or, if in a language other than English, the Submission must be accompanied by an English translation of the text.

13. Submissions will not be accepted if they contain any matter that, in the sole discretion of DOE or its judges, is indecent, obscene, defamatory, libelous, in bad taste, or demonstrates a lack of respect for public morals or conduct. If DOE, in its discretion, finds any Submission to be unacceptable, then such Submission shall be deemed disqualified.

14. Winners are responsible for both reporting and paying all applicable Federal, state, and local taxes payable from any prize amounts awarded under this Challenge.

IX. Additional Terms and Conditions

Challenge Subject to Applicable Law: the Challenge is subject to all applicable Federal laws and regulations. Registering for this Challenge constitutes each Team and/or Contestant's agreement to the official rules as set forth on http://energychallenge.energy.gov/ and administrative decisions, which are final and binding in all matters related to the Challenge. Eligibility for a prize award is contingent upon fulfilling all requirements set forth herein.

Judges: The Submissions will be judged by a qualified judging panel selected by DOE at its sole discretion. The judging panel will judge the Submissions on the judging criteria identified in the Contest rules in order to select winners in each category.

Publicity: Except where prohibited, participation in the Challenge constitutes each winner's consent to DOE's and its agents' use of each winner's name, likeness, photograph, voice, biographical information, opinions, and/or hometown and state information for promotional purposes through any form of media, worldwide, without further permission, payment, or consideration.

Liability and Insurance: Any and all information provided by or obtained from the Federal Government is without any warranty or representation whatsoever, including but not limited to its suitability for any particular purpose. Upon registration, all Contestants agree to assume and, thereby, have assumed any and all risks of injury or loss in connection with or in any way arising from participation in this competition, development of any application, or the use of any application by the Contestants or any third party. Upon registration, all Contestants agree to and, thereby, do waive and release any and all claims or causes of action against the Federal Government and its officers, employees and agents for any and all injury and damage of any nature whatsoever (whether existing or thereafter arising, whether direct, indirect, or consequential and whether foreseeable or not), arising from their participation in the Challenge, whether the claim or cause of action arises under contract or tort. Upon registration, all Contestants agree to and, thereby, shall indemnify and hold harmless the Federal Government and its officers, employees and agents for any and all injury and damage of any nature whatsoever (whether existing or thereafter arising, whether direct, indirect, or consequential and whether foreseeable or not), including but not limited to any damage that may result from a virus, malware, etc., to Government computer systems or data, or to the systems or data of end-users of the software and/or application(s) which results, in whole or in part, from the fault, negligence, or wrongful act or omission of the Contestants or Contestants' officers, employees or agents.

Records Retention and FOIA: All materials submitted to DOE as part of a Submission become DOE records and cannot be returned. No confidential information will be accepted with any Submission. Submitters will be notified of any Freedom of Information Act requests for their Submissions in accordance with 10 CFR part 1004.

508 Compliance: Participants should keep in mind that the Department of Energy considers universal accessibility to information a priority for all individuals, including individuals with disabilities. In this regard, the Department is strongly committed to meeting its compliance obligations under Section 508 of the Rehabilitation Act of 1973 (29 U.S.C. § 794d), as amended, to ensure the accessibility of its programs and activities to individuals with disabilities. This obligation includes acquiring accessible electronic and information technology. When evaluating Submissions for this contest, the extent to which a Submission complies with the requirements for accessible technology required by Section 508 will be considered.

Public Voting: DOE is not responsible for, nor is it required to count, incomplete, late, misdirected, damaged, unlawful, or illicit votes, including those secured through payment or achieved through automated means.

X. Contact Information

Department of Energy, Office of Public Affairs, 7A-145, Attn: American Energy Data Challenge, 1000 Independence Ave. SW., Washington, DC 20585.

For questions about the Official Rules, contact DataInnovation@hq.doe.gov.

Issued in Washington, DC on November 6, 2013.
Patricia A. Hoffman,
Assistant Secretary, Office of Electricity Delivery and Energy Reliability.

[FR Doc. 2013-26976 Filed 11-8-13; 8:45 am]

BILLING CODE 6450-01-P